DEPARTMENT OF AGRICULTURE

Animal and Plant Health Inspection Service

[Docket No. APHIS-2022-0055]

Final Programmatic Environmental Impact Statement for Outbreak Response Activities for Highly Pathogenic Avian Influenza Outbreaks in Poultry in the United States and U.S. Territories; Record of Decision

AGENCY: Animal and Plant Health Inspection Service, USDA.

ACTION: Notice.

SUMMARY: We are advising the public that the USDA Animal and Plant Health Inspection Service (APHIS), Veterinary Services has prepared a record of decision (ROD) for the final programmatic environmental impact statement (EIS) titled “Outbreak Response Activities for Highly Pathogenic Avian Influenza Outbreaks in Poultry in the United States and U.S. Territories”.

DATES: The USDA APHIS Administrator signed the ROD on May 23, 2025.

ADDRESSES: You may read the final programmatic EIS and ROD at:

• The Federal eRulemaking Portal. Go to www.regulations.gov. Enter APHIS-2022-0055 in the Search field.

• In our reading room, located in Room 1620 of the USDA South Building, 14th Street and Independence Avenue SW, Washington, DC 20250. Normal reading room hours are 8 a.m. to 4:30 p.m., Monday through Friday, except holidays. To be sure someone is there to help you, please call (202) 799-7039 before coming.

FOR FURTHER INFORMATION CONTACT: Ms. Chelsea Bare, Chief of Staff, Veterinary Services, APHIS, U.S. Department of Agriculture, 1400 Independence Avenue SW, Whitten Building Room 318-E, Washington, DC 20250; (515) 337-6128; chelsea.j.bare@usda.gov.

SUPPLEMENTARY INFORMATION: On January 18, 2023, the United States Department of Agriculture (USDA), Animal and Plant Health Inspection Service (APHIS), Veterinary Services (VS) published in the Federal Register a notice of intent ¹ (NOI), (88 FR 2877-2879, Docket No. APHIS-2022-0055) to prepare a programmatic environmental impact statement (EIS) on outbreak response activities for highly pathogenic avian influenza (HPAI) outbreaks in poultry for comment for 30 days. That same day, an announcement of the NOI was posted on USDA APHIS VS' stakeholder registry. The agency requested the public to comment on the NOI to help identify potential alternatives or any relevant information, studies, or analyses that USDA APHIS VS should consider in evaluating the potential impacts of the proposed alternatives on the quality of the human environment. Comments on the NOI were required to be received on or before February 17, 2023. All comments were considered and, when appropriate, discussed in the draft programmatic EIS.

¹ To view the NOI and public comments that we received, go to www.regulations.gov and enter APHIS-2022-0055 in the Search field.

On August 16, 2024, USDA APHIS VS published in the Federal Register a notice of availability (NOA) of the draft HPAI programmatic EIS ² (89 FR 66668-66669) for public review and comment for 45 days. Comments on the draft programmatic EIS were required to be received on or before September 30, 2024. On January 3, 2025, we reopened the comment period for an additional 14 days (90 FR 301), until January 17, 2025, to allow interested persons additional time to prepare and submit comments. All comments were considered and addressed to the extent possible in the final programmatic EIS.

² To view the NOI, draft programmatic EIS, final programmatic EIS, and public comments that we received, go to www.regulations.gov and enter APHIS-2022-0055 in the Search field.

On April 18, 2025, USDA APHIS VS published in the Federal Register a NOA of the final HPAI programmatic EIS (90 FR 16493-16495). The final programmatic EIS, prepared in accordance with the Council on Environmental Quality's (CEQ's) April 2022 National Environmental Policy Act (NEPA) implementing regulations that went into effect on May 20, 2022, required a minimum 30-day waiting period between the time a final EIS is published and the time an agency makes a decision on an action covered by the EIS. The review period for the final HPAI programmatic EIS ended on May 19, 2025.

USDA APHIS has reviewed the final programmatic EIS and has concluded that the document fully analyzes the issues covered by the draft programmatic EIS and addresses the comments and suggestions submitted by commenters. This notice advises the public that the waiting period has elapsed, and USDA APHIS has issued a Record of Decision (ROD) to implement the preferred alternative described in the final programmatic EIS. The APHIS Administrator signed the ROD on May 23, 2025.

The ROD has been prepared in accordance with: (1) NEPA of 1969, as amended (42 U.S.C. 4321 et seq.), (2) the CEQ's NEPA implementing regulations (40 CFR parts 1500-1508), compliant with the April 2022 regulations that went into effect on May 20, 2022, (3) USDA's NEPA implementing regulations (7 CFR part 1b), and (4) USDA APHIS' NEPA Implementing Procedures (7 CFR part 372).

Done in Washington, DC, this 8th day of July 2025.
Michael Watson,
Administrator, Animal and Plant Health Inspection Service.

[FR Doc. 2025-13157 Filed 7-11-25; 8:45 am]

BILLING CODE 3410-34-P